DEPARTMENT OF TRANSPORTATION

Office of the Secretary

Aviation Proceedings, Agreements Filed Between November 10 and December 5, 2003

The following Agreements were filed with the Department of Transportation under the provisions of 49 U.S.C. sections 412 and 414. Answers may be filed within 21 days after the filing of the application.

Agreements filed during the week ending November 14, 2003.

Docket Number: OST-2003-16525.

Date Filed: November 13, 2003.

Parties: Members of the International Air Transport Association.

Subject: PAC/Reso/421 dated August 12, 2003, Finally Adopted Resolutions r1-r42, Minutes—PAC/Meet/179 dated August 12, 2003, Intended effective date: January 1, 2004.

Agreements filed during the week ending November 21, 2003.

Docket Number: OST-2003-16541.

Date Filed: November 17, 2003.

Parties: Members of the International Air Transport Association.

Subject: PTC31 N&C/CIRC 0253 dated 17 October 2003, Circle Pacific Resolutions 002, 073c, PTC31 N&C/CIRC 0254 dated 17 October 2003, North and Central Pacific Areawide Resolutions, PTC31 N&C/CIRC 0255 dated 17 October 2003, TC3 (except Japan)-North America, Caribbean Resolutions except between Korea (Rep. of), Malaysia-USA, PTC31 N&C/CIRC 0256 dated 17 October 2003, Japan-North America, Caribbean Resolutions, PTC31 N&C/CIRC 0257 dated 17 October 2003, TC3-Central America, South America Resolutions, PTC31 N&C/CIRC 0258 dated 17 October 2003, Korea (Rep. of), Malaysia-USA Resolutions r1-r75, Minutes—PTC31 N&C/CIRC 0259 dated 14 November 2003, Tables—PTC31 N&C/CIRC Fares 0114 dated 21 October 2003, Japan-North America, Caribbean Specified Fares Tables, PTC31 N&C/CIRC Fares 0115 dated 21 October 2003, Circle Pacific Specified Fares Tables, PTC31 N&C/CIRC Fares 0116 dated 21 October 2003, TC3-Central America, South America Specified Fares Tables, PTC31 N&C/CIRC Fares 0117 dated 21 October 2003, TC3 (except Japan)-North America, Caribbean Specified Fares Tables, Intended effective date: 1 April 2004.

Docket Number: OST-2003-16542.

Date Filed: November 17, 2003.

Parties: Members of the International Air Transport Association.

Subject: PTC2 EUR 0537 dated 14 November 2003, Within Europe Expedited Resolutions r1-r9, Intended effective date: 1 January 2004.

Docket Number: OST-2003-16559.

Date Filed: November 20, 2003.

Parties: Members of the International Air Transport Association.

Subject: Mail Vote 339, PTC23 EUR-SEA 0176 dated 18 November 2003, Resolution 010b Special Amending Resolution between Europe and South East Asia, Intended effective date: 1 April 2004.

Docket Number: OST-2003-16562.

Date Filed: November 21, 2003.

Parties: Members of the International Air Transport Association.

Subject: Mail Vote 342, PTC3 0678 dated 25 November 2003, TC3 Special Passenger Amending Resolution 010e between Japan, Korea and South East Asia r1-r5, Intended effective date: 1 December 2003.

Agreements filed during the week ending November 28, 2003.

Docket Number: OST-2003-16565.

Date Filed: November 24, 2003.

Parties: Members of the International Air Transport Association.

Subject: CTC COMP 0460 dated 21 November 2003, Mail Vote 343—Resolution 010cc, TC2/12 Special Cargo Amending Resolution, Intended effective date: 1 May 2004.

Docket Number: OST-2003-16583.

Date Filed: November 28, 2003.

Parties: Members of the International Air Transport Association.

Subject: Mail Vote 344, PTC3 0679 dated 2 December 2003, TC3 Special Passenger Amending Resolution 010f, between Japan, Korea and South East Asia r1-r9, Intended effective date: 15 December 2003.

Agreements filed during the week ending December 5, 2003.

Docket Number: OST-2003-16588.

Date Filed: December 1, 2003.

Parties: Members of the International Air Transport Association.

Subject: PTC3 0680 dated 2 December 2003, Within South Asian Subcontinent, Expedited Resolution 002ad, PTC3 0681 dated 2 December 2003, Within South East Asia except between Malaysia and Guam Expedited Resolutions 002ap, 070uu, PTC3 0682 dated 2 December 2003 between South East Asia and South Asian Subcontinent Expedited Resolutions 002bc, 070tt, 085ii PTC3 0683 dated 2 December 2003 between South Asian Subcontinent and South West Pacific Expedited Resolution 002bi, PTC3 0684 dated 2 December 2003 between South East Asia and South West Pacific except between Malaysia and American Samoa, Expedited Resolution 002bn, PTC3 0685 dated 2 December 2003 between Japan, Korea and South East Asia except between Korea (Rep. of) and Guam, Northern Mariana Islands Expedited Resolution 002dm r1-r23, Intended effective date: 15 January 2004.

Docket Number: OST-2003-16589.

Date Filed: December 1, 2003.

Parties: Members of the International Air Transport Association.

Subject: PTC23 EUR-SWP 0080 dated 2 December 2003, Europe-South West Pacific Expedited Resolution 002bw rl, Intended effective date: 1 January 2004.

Docket Number: OST-2003-16615.

Date Filed: December 2, 2003.

Parties: Members of the International Air Transport Association.

Subject: PTC23 EUR-SASC 0114 dated 28 November 2003, TC23 Europe-South Asian Subcontinent, Expedited Resolution 002ca r1, Intended effective date: 1 January 2004.

Docket Number: OST-2003-16616.

Date Filed: December 2, 2003.

Parties: Members of the International Air Transport Association.

Subject: PTC2 EUR 0538 dated 21 November 2003, Within Europe Resolutions r1-r26 , PTC2 EUR 0539 dated 21 November 2003 Within Europe Resolutions r27-r28, PTC2 EUR 0540 dated 21 November 2003 Within Europe Resolutions r29, Minutes—PTC2 EUR 0541 dated 28 November 2003, Tables—PTC2 EUR Fares 0092 (Part 1 Pages 1-360) dated 21 November 2003, PTC2 EUR Fares 0092 (Part 2 Pages 361-687) dated 21 November 2003, Intended effective date: 1 March 2004, 1 April 2004, 1 June 2004.

Docket Number: OST-2003-16633.

Date Filed: December 4, 2003.

Parties: Members of the International Air Transport Association.

Subject: PTC23 EUR-SWP 0081 dated 5 December 2003, Europe-South West Pacific Expedited Resolutions 002cj, 071rr r1-r3, Intended effective date: 15 January 2004.

Andrea M. Jenkins,
Program Manager, Docket Operations, Federal Register Liaison.

[FR Doc. 03-31414 Filed 12-19-03; 8:45 am]

BILLING CODE 4910-62-P